DEPARTMENT OF COMMERCE

National Oceanic and Atmospheric Administration

[I.D. 110206C]

Magnuson-Stevens Act Provisions; General Provisions for Domestic Fisheries; Application for Exempted Fishing Permit

AGENCY: National Marine Fisheries Service (NMFS), National Oceanic and Atmospheric Administration (NOAA), Commerce.

ACTION: Notice; receipt of exempted fishing permit application.

SUMMARY: The Assistant Regional Administrator for Sustainable Fisheries, Northeast Region, NMFS (Assistant Regional Administrator) has made a preliminary determination that the subject exempted fishing permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP, which would enable researchers to investigate the efficacy of two experimental flounder trawl designs to reduce bycatch of cod and sublegal-sized flounders, would allow for exemptions from the FMP as follows: U.S./Canada Management Area gear requirements for flounder trawl nets, and the NE multispecies possession restrictions.

Regulations under the Magnuson-Stevens Fishery Conservation and Management Act require publication of this notification to provide interested parties the opportunity to comment on applications for proposed EFPs.

DATES: Comments must be received on or before November 22, 2006.

ADDRESSES: Written comments should be sent to Patricia A. Kurkul, Regional Administrator, NMFS, Northeast Regional Office, 1 Blackburn Drive, Gloucester, MA 01930. Mark the outside of the envelope “Comments on the Massachusetts Flounder Trawl Study.” Comments may also be sent via facsimile (fax) to (978) 281-9135, or submitted via e-mail to the following address: DA6327@noaa.gov.

FOR FURTHER INFORMATION CONTACT: Tobey Curtis, Fishery Management Specialist, (978) 281-9273, fax (978) 281-9135.

SUPPLEMENTARY INFORMATION: A complete application for an EFP was submitted on October 23, 2006, by David Chosid and Michael Pol of the Massachusetts Division of Marine Fisheries (DMF). The project was funded by the Saltonstall-Kennedy Grant Program. The primary goal of the research is to test the efficacy of two experimental flounder trawl designs to reduce the bycatch of cod and sublegal-sized flounders. The intent of the researchers is that the experimental nets, if successful, could potentially be an acceptable alternative trawl design to be used in the future in flounder fisheries and/or in Special Access Programs.

The project continues previous work conducted by DMF, which has preliminarily shown that these net designs significantly reduce the bycatch of cod and sublegal yellowtail flounder, as compared to the standard 2-seam flounder trawl. Specifically, DMF will test the effectiveness of two modified 2-seam flounder trawl designs, referred to as the “Ribas” net and the “Topless” net. The Ribas net is constructed of 6-inch (15.24 cm) diamond mesh with 75 meshes of 6.5-inch (16.51 cm) square knotless mesh in the codend, 25 meshes wide on the top and bottom. The 6-inch (15.24 cm) diamond mesh normally found on the top middle of flounder nets is replaced with 25 meshes wide of 8-inch (20.32 cm) square mesh from the headrope to the codend. This design has a headrope and footrope length of 60 ft (18.3 m). The Topless net has an identical bottom half and codend to the Ribas net, but has no top wings, and much of the top webbing of the net is removed. The headrope of the Topless net tapers into the top belly of the net, and has a length of 89 ft (27.1 m).

The species of principal interest in the study are cod and yellowtail flounder, but the study will also have implications for other flatfishes, including winter flounder, witch flounder, and American plaice. All fish would be sorted and weighed, and fish of legal size would be retained for sale. All discards would be released as quickly as practicable to reduce incidental mortality. Based on catch data from previous experimental tows, the researchers anticipate that a total of 79,300 lb (35,970 kg) of fish would be harvested throughout the course of the study along with 204,479 lb (92,750 kg) of regulatory discards. All proceeds from the sale of the fish will be returned to DMF for the purpose of enhancing future research.

All at-sea research would be conducted from the F/V Mary Elena (Permit # 330739, O.N. 970254). The vessel intends to fish in the Eastern and Western U.S./Canada Management Areas. The vessel would fish exclusively outside of all closed areas. A total of 11 days would be used for testing the experimental trawls, carried out under A days-at-sea (DAS). An anticipated 70, 2-hour tows, using a twin trawl rig, would be conducted during that time. This effort would result in a total of 140 hours of bottom time for the experimental trawls.

Based on preliminary review of this project, and in accordance with NOAA Administrative Order 216-6, a Categorical Exclusion (CE) from requirements to prepare either an Environmental Impact Statement (EIS) or an Environmental Assessment (EA) under the National Environmental Policy Act (NEPA) appears to be justified. The applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: November 2, 2006.
James P. Burgess,
Acting Director, Office of Sustainable Fisheries, National Marine Fisheries Service.

[FR Doc. E6-18721 Filed 11-6-06; 8:45 am]

BILLING CODE 3510-22-S